DEPARTMENT OF COMMERCE

International Trade Administration

[A-485-806]

Notice of Amended Final Antidumping Duty Determination and Antidumping Duty Order: Certain Hot-Rolled Carbon Steel Flat Products From Romania

AGENCY: Import Administration, International Trade Administration, Department of Commerce.

EFFECTIVE DATE: November 29, 2001.

FOR FURTHER INFORMATION CONTACT: Christopher Riker or Charles Riggle, Group II, Office 5, Import Administration, International Trade Administration, U.S. Department of Commerce, 14th Street and Constitution Avenue, NW, Washington, DC 20230; telephone: (202) 482-0186, (202) 482-0650, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (the Department) regulations refer to the regulations codified at 19 CFR part 351 (2000).

Scope of Order

For purposes of this order, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight length, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this order.

Specifically included within the scope of this order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this order, regardless of definitions in the Harmonized Tariff Schedule of the United States (HTSUS), are products in which: (i) Iron predominates, by weight, over each of the other contained elements; (ii) the carbon content is 2 percent or less, by weight; and (iii) none of the elements listed below exceeds the quantity, by weight, respectively indicated:

• 1.80 percent of manganese,

• 2.25 percent of silicon,

• 1.00 percent of copper,

• 0.50 percent of aluminum,

• 1.25 percent of chromium,

• 0.30 percent of cobalt,

• 0.40 percent of lead,

• 1.25 percent of nickel,

• 0.30 percent of tungsten,

• 0.10 percent of molybdenum,

• 0.10 percent of niobium,

• 0.15 percent of vanadium or

• 0.15 percent of zirconium.

All products that meet the physical and chemical description provided above are within the scope of this order unless otherwise excluded. The following products, by way of example, are outside or specifically excluded from the scope of this order:

• Alloy hot-rolled steel products in which at least one of the chemical elements exceeds those listed above (including, e.g., American Society for Testing and Materials (ASTM) specifications A543, A387, A514, A517, A506). Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00.

Although the HTSUS subheadings are provided for convenience and U.S. Customs purposes, the written description of the merchandise subject to this proceeding is dispositive.

Amended Final Determination

In accordance with section 735(a) of the Act, on September 28, 2001, the Department published its affirmative final determination of the antidumping duty investigation of certain hot-rolled carbon steel flat products from Romania (Notice of Final Determination of Antidumping Duty Investigation: Certain Hot-Rolled Carbon Steel Flat Products from Romania, 66 FR 49625). On October 5 and 9, 2001, we received ministerial error allegations, timely filed pursuant to § 351.224(c)(2) of the Department's regulations, from the respondents ¹ and certain petitioners,² respectively, regarding the Department's final margin calculations. On October 10, 2001, we received rebuttal comments from these petitioners.

¹ The respondents are Sidex, S.A. (Sidex), Sidex Trading SRL, Sidex International Plc (collectively, the Sidex Exporters), Metalexportimport S.A. (MEI), Metanef S.A. (Metanef) and Metagrimex Business Group S.A. (Metagrimex).

² These petitioners are Bethlehem Steel Corporation, LTC Steel Company, Inc., National Steel Corporation, and United States Steel LLC.

The respondents alleged that the Department (1) Erred in not using the purchase price of sulphuric acid from Bulgaria in its cost of production calculations, (2) mistakenly increased electricity consumption by almost 30 percent rather than the intended 10 percent, and (3) incorrectly assumed that several shipments of raw materials were transported by barge when they had in fact been transported by train or truck. The petitioners argued that the Department erroneously calculated the non-depreciation overhead rate, and failed to apply the total overhead rate to certain sales in its margin calculations. The petitioners also rebutted the respondents' claim that the Department should have used the purchase price of Bulgarian sulphuric acid in its cost of production calculation.

In accordance with section 735(e) of the Act, we have determined that ministerial errors were made in our final margin calculation in the adjustment of electricity consumption and the application of the total overhead rate for certain sales. For a detailed analysis of these allegations, and the Department's position, see the October 24, 2001 Memorandum to Bernard T. Carreau from Charles Riggle, regarding Ministerial Error Allegations on file in room B-099 of the Main Commerce building (Ministerial Error Memo).

This determination is based on a re-examination of the calculations performed to obtain constructed value and the final dumping margins. We determined that all other errors alleged by both parties were methodological and not ministerial, as defined in section 735(e) of the Act. In addition, we discovered that two factor inputs were mistakenly assigned incorrect surrogate freight values based on incorrect freight distances. We have determined that these errors also meet the definition of a ministerial error. For a more detailed analysis, see the Ministerial Error Memo. We notified the U.S. International Trade Commission (ITC) of the changes in the margins resulting from the Department's corrections of its ministerial errors on October 26, 2001.

On November 13, 2001, in accordance with section 735(d) of the Act, the ITC notified the Department that a U.S. industry is materially injured within the meaning of section 735(b)(1)(A) of the Act by reason of imports of certain hot-rolled carbon steel flat products from Romania.

Therefore, in accordance with section 736(a)(1) of the Act, the Department will direct the United States Customs Service (U.S. Customs) to assess, upon further advice by the Department, antidumping duties equal to the amount by which the normal value of the merchandise exceeds the export price or constructed export price of the merchandise for all relevant entries of certain hot-rolled carbon steel flat products from Romania. These antidumping duties will be assessed on all unliquidated entries of imports of the subject merchandise that are entered, or withdrawn from warehouse, for consumption on or after May 3, 2001, the date of publication of the preliminary determination in the Federal Register.

On or after the date of publication of this notice in the Federal Register, U.S. Customs officers must require, at the same time as importers would normally deposit estimated duties, cash deposits for the subject merchandise equal to the estimated weighted-average dumping margins listed below.

Exporter/manufacturer | Weighted- average margin percentage
Sidex Trading, SRL & Sidex International, Plc. | 16.34
Metanef, S.A. | 21.59
Metagrimex, S.A. | 16.29
Metalexportimport,S.A. | 18.04
Romania-Wide | 88.62

This notice constitutes the antidumping duty order with respect to certain hot-rolled carbon steel flat products from Romania, pursuant to section 736(a) of the Act. Interested parties may contact the Central Records Unit, Room B-099 of the Main Commerce Building, for copies of an updated list of antidumping duty orders currently in effect.

This order is issued and published in accordance with section 736(a) of the Act and 19 CFR 351.211.

Dated: November 20, 2001.
Faryar Shirzad,
Assistant Secretary for Import Administration.

[FR Doc. 01-29674 Filed 11-28-01; 8:45 am]

BILLING CODE 3510-DS-P